DEPARTMENT OF AGRICULTURE

Forest Service

Plan Revision for Malheur, Umatilla and Wallowa-Whitman National Forests, Oregon and Washington (Collectively Called the Blue Mountains Forest Plan Revision)

AGENCY: Forest Service, USDA.

ACTION: Notice of intent to prepare an environmental impact statement and revised land management plan using the provisions of the National Forest System land and resource management planning rule in effect prior to November 9, 2000 for the Malheur (including that portion of the Ochoco National Forest administered by the Malheur National Forest), Umatilla and Wallowa-Whitman National Forests, Adams, Idaho, and Nez Perce Counties in Idaho; Baker, Grant, Harney, Morrow, Umatilla, Union, Wallowa, and Wheeler Counties in Oregon; Asotin, Columbia, Garfield, and Walla Walla Counties in Washington.

SUMMARY: As directed by the National Forest Management Act, the USDA Forest Service is preparing the Malheur, Umatilla and Wallowa-Whitman National Forests revised land management plans and will also prepare an environmental impact statement for these revised plans. This notice briefly describes the purpose and need, the proposed action, the scoping process for the plan revisions (including any scoping meetings), information concerning public participation, estimated dates for filing the EIS and provides the names and addresses of the responsible agency official and the individuals who can provide additional information. This notice also briefly describes the applicable planning rule.

The revised land management plans will supersede the land management plans previously approved by the Regional Forester. The Malheur National Forest land management plan was signed on May 25, 1990 and has been amended 67 times. The Umatilla National Forest land management plan was signed on June 11, 1990 and has been amended 34 times. The Wallowa-Whitman National Forest land management plan was signed on April 23, 1990, and has been amended 43 times. Most forest plan amendments are project-specific amendments and apply to that project only. Some amendments incorporated new management direction for specific management areas, such as wild and scenic rivers. Five amendments were incorporated into all three forest plans by the Regional Forester. These amendments included direction for managing streams and riparian areas, old growth forests, and treatment of invasive species. These amended plans will remain in effect until the revision takes effect.

DATES: Comments concerning the scope of this analysis must be received by May 25, 2010. The agency expects to complete a proposed plan and draft environmental impact statement by April 2011 and a final plan and final environmental impact statement by March 2012.

See SUPPLEMENTARY INFORMATION section for meeting dates.

ADDRESSES: Send written comments to: Wallowa-Whitman National Forest, Attn: Blue Mountains Forest Plan Revision Team, P.O. Box 907, Baker City, Oregon 97814, or e-mail: blue_mtn_planrevision@fs.fed.us.

FOR FURTHER INFORMATION CONTACT: Katie Countryman, Forest Plan Revision Team leader, phone 541-523-1264 or Tim Gliddon, Planning Assistant, phone 541-523-1269. Information on this revision is also available at the Blue Mountain Forest Plan Revision Web site http://www.fs.fed.us/r6/uma/blue_mtn_planrevision.

Individuals who use telecommunication devices for the deaf (TDD) may call the Federal Information Relay Service (FIRS) at 800-877-8339 between 8 a.m. and 8 p.m., Eastern Time Monday through Friday.

SUPPLEMENTARY INFORMATION:

Purpose and Need

The existing forest plans are 20 years old. Economic, social, and ecological conditions changed during that time; new laws, regulations and policies are in place; and new information based on monitoring and scientific research is available. The Malheur, Umatilla, and Wallowa-Whitman National Forests are revising their 1990 forest plans to meet the legal requirements of the National Forest Management Act (NFMA) of 1976; to address changed conditions and provide consistent management direction (as appropriate) across the three national forests; to incorporate changes in law, regulation, and policy; and to utilize new scientific information. In particular, the interdisciplinary planning team intends to address the following areas in the revised forest plans:

1. To more adequately protect and restore terrestrial plant and animal species and their habitats. Two objectives in the Strategic Plan for the Forest Service are to “provide ecological conditions to sustain viable populations of native and desired nonnative species and to achieve objectives for management indicator and focal species.” The Columbia Basin Strategy (2000) identifies key elements to be addressed in planning efforts, such as source habitats, that are not addressed in the 1990 forest plans. The structural arrangement of vegetation, both vertical and horizontal, and the size and arrangement of trees, grasses, and shrubs are important components of wildlife habitat. Many changes to forest stand structure have occurred due to disturbances such as fire, timber harvest, and insects and disease. There has been a loss of large (20 inches DBH and greater) and medium (15 to 20 inches DBH) trees across the landscape. Dry old single story forest has been greatly reduced from pre-1900 levels. Some of the most significant changes in forested structural stages have occurred in the dry forest environment. All of these changes have led to reductions in habitat for some species and increases for others. The 1990 forest plans need to be updated to reflect current science relating to plant and animal species and their habitats.

2. To address management of fuels and fire risk. Changing vegetative conditions have made forests more susceptible to disturbances, such uncharacteristically severe fires, insects and disease. Several factors have contributed to the changes, including the cumulative effects of a periodic and sometimes extended drought, climate change, increasing vegetative density, shifts in forest species composition, and modified landscape patterns. Forested areas on the three national forests are dominated by dense, multi-layered conifer stands with tree species that are not well suited for the area. The 1990 forest plan standards and guidelines do not adequately address the multiple factors that have created the existing uncharacteristic conditions nor do they adequately address the varied nature of the landscape. Neither do they address the need for management strategies that recognize the unique qualities of various landscapes. An integrated strategy that recognizes multiple risk factors and addresses variability in conditions and site potentials is needed.

3. To more adequately protect and restore watersheds and aquatic habitats. The Columbia Basin Strategy (2000) emphasizes restoring the processes responsible for creating and maintaining aquatic and riparian habitats and restoring naturally functioning riparian ecosystems. It also outlines specific components to be included in revised forest plans. The 1990 forest plans include, by amendment, interim direction (i.e., PACFISH, INFISH, and the Eastside Screens) for management of threatened or endangered fish species. However, the 1990 plan language was never changed to integrate this interim direction or resolve conflicts between the existing plan language and the interim direction language. The 1990 forest plans do not adequately provide integrated management strategies for maintenance and restoration of properly functioning watersheds that provide a range of benefits on and off the national forests. These include, but are not limited to, providing habitat for terrestrial, aquatic, and riparian-dependent species; maintaining water quality; providing channel stability; reducing erosion; moderating floods; and maintaining reliable stream flows for downstream users.

4. To address climate change. The 1990 forest plans do not address climate change. Climate change is expected to affect plant species range and composition and alter competitive relationships between plant species. Changes in the composition and structure of plant communities will, in turn, alter the character and distribution of wildlife habitats. Future conditions may be more favorable to some undesired non-native plant and animal species. The full extent of changes in response to climate change on natural resources in the Blue Mountains is uncertain, but integrated management direction is needed to maintain or increase the resilience of the national forests in the face of these changes.

5. To recognize the interdependency of social and economic components with national forest management. The relationship between the national forests and the people who live, work, and play in them is not adequately recognized in the 1990 forest plans. National forests provide a variety of recreation opportunities, work opportunities, and opportunities to exercise cultural and spiritual traditions. Local communities provide infrastructure that contributes to the ability of the national forests to restore and maintain ecological systems. In eastern Oregon in particular, the tie between national forest management and the social and economic well-being of local communities is particularly important. With historically high unemployment rates and many small communities poorly positioned to attract new industries providing family-wage jobs, logging and wood processing jobs are essential to maintaining and improving social and economic conditions. In addition, many of the actions needed to improve forest structure, reduce fuel loadings and conduct other restoration activities in eastern Oregon are dependent on the workforce and infrastructure associated with logging and wood processing.

Proposed Action

The Proposed Action is a revision of the land management plans for the Malheur, Umatilla and Wallowa-Whitman National Forests designed to meet the purpose and need. It includes revised goals/desired conditions, objectives, standards, guidelines, suitable uses and activities, management area designations including special areas, and monitoring items. The Proposed Action can be found at the Blue Mountains Forest Plan Revision Web site: http://www.fs.fed.us/r6/uma/blue_mtn_planrevision/.

Public Participation

The Malheur, Umatilla, and Wallowa-Whitman National Forests began this forest plan revision process in 2003. Public participation began in 2004 with community workshops. Workshops were held in Baker City, Burns, Enterprise, Heppner, John Day, La Grande and Portland, Oregon, and in Dayton and Pasco, Washington. Workshops were also held in 2005 and 2006. Three field trips, one on each forest, were conducted in 2005. Meetings with representatives of the counties where the forests are located began in 2004 and are continuing. Government-to-government consultation with Tribal nations and staff-to-staff consultation with their resource specialists began early in the process and will continue.

Public meetings are scheduled at the following dates and locations:

April 6, 2010—5 p.m. Federal Building, 431 Patterson, John Day, Oregon.

April 7, 2010—5 p.m. Harney County Senior Center, 17 S. Alder, Burns, Oregon.

April 13, 2010—5 p.m. Pendleton Convention Center, Rooms 3 & 4, 1601 Westgate, Pendleton, Oregon.

April 14, 2010—5 p.m. St. Patrick Senior Center, 182 N. Main, Heppner, Oregon.

April 15, 2010—5 p.m. Public Use Building, 1 N. Pine, Dayton, Washington.

April 20, 2010—5 p.m. Sunridge Inn, One Sunridge Lane, Baker City, Oregon.

April 21, 2010—5 p.m. Eastern Oregon University, One University Blvd, Hoke Hall, Room 309, La Grande, Oregon.

April 22, 2010—5 p.m. Civic Center, 102 E. 1st St., Joseph, Oregon.

April 28, 2010—5 p.m. Red Lion Hotel Portland Convention Center, 1021 NE. Grand Avenue, Portland, Oregon.

April 29, 2010—5 p.m. Franklin County Public Utility District Auditorium, 1411 West Clark, Pasco, Washington.

Lead and Cooperating Agencies

The Forest Service, USDA, is the lead agency. Cooperating agencies are: The State of Oregon; Baker County, Grant County, Harney County, Morrow County, Umatilla County, Wallowa County, and Wheeler County in Oregon; and Asotin County, Columbia County, and Garfield County in Washington. The Confederated Tribes of the Umatilla Indian Reservation is also a cooperating agency.

Name and Address of the Responsible Official

Mary Wagner, Regional Forester, Pacific Northwest Region, 333 SW. 1st Street, P.O. Box 3623, Portland, Oregon 97208.

Nature of the Decision To Be Made

The Malheur, Umatilla, and Wallowa-Whitman National Forests are preparing an EIS to revise the current forest plans. The EIS process is meant to inform the Regional Forester so that she can decide which alternative best meets the need to achieve quality land management to meet the diverse needs of people while protecting the forests' resources, as required by the National Forest Management Act and the Multiple Use Sustained Yield Act.

The revised forest plans provide guidance for all resource management activities on the Malheur, Umatilla and Wallowa-Whitman National Forests. Approval of the revised forest plans will result in the following plan components to guide management for the next 10 to 15 years:

• Goals/desired conditions;

• Objectives;

• Forest-wide standards and guidelines;

• Management area desired conditions, standards, and guidelines;

• Suitability of lands for uses and activities;

• Monitoring and evaluation requirements; and

• Recommendations may be made for special areas, such as Research Natural Areas, or areas that can only be designated by statute, such as wilderness.

Goals/desired conditions provide a description of desired outcomes of forest management. Objectives provide projections of measurable outcomes intended to promote achievement of forest plan goals/desired conditions. Forest-wide standards and guidelines provide management direction and guidance that is applicable across each national forest. Management Area desired conditions, standards, and guidelines provide direction that applies to specific geographic areas within the three national forests. Identification of characteristics of lands for specific uses and activities provides integration between particular uses and desired conditions and objectives for areas on the national forest. Monitoring and evaluation indicates whether areas are trending toward goals/desired conditions so that needed adjustments can be made in the future. Special areas are places or areas within the National Forest System designated because of their unique or special characteristics. Some can be designated by the responsible official, such as a botanical area. Others, such as wilderness or wild and scenic river designations, are recommended for designation by the responsible official, and are designated by Congressional action.

As important as the decisions to be made is the identification of the types of decisions that will not be made within the revised forest plan. The authorization of project-level activities on the forests is not a decision made in the forest plan but occurs through subsequent project specific decision-making. The designation of routes, trails, and areas for motorized vehicle travel are not considered during plan revision. Some issues (e.g., hunting regulations), although important, are beyond the authority or control of the national forests and will not be considered. In addition, some issues, such as wild and scenic river suitability determinations, may not be undertaken at this time, but addressed later as a future forest plan amendment. The Hells Canyon National Recreation Area (HCNRA), administered by the Wallowa-Whitman National Forest, is managed under the HCNRA Comprehensive Management Plan, a part of the Wallowa-Whitman National Forest land management plan. The HCNRA Comprehensive Management Plan was revised in 2003 and is not being considered for modification in this revision process.

Applicable Planning Rule

On December 18, 2009 the Department reinstated the previous planning rule, commonly known as the 2000 planning rule in the Federal Register (Federal Register, Volume 74, No. 242, Friday, December 18, 2009, pages 67059 through 67075). The transition provisions of the reinstated rule (36 CFR 219.35 and appendices A and B) allow use of the provisions of the National Forest System land and resource management planning rule in effect prior to the effective date of the 2000 rule (November 9, 2000), commonly called the 1982 planning rule, to amend or revise plans. The Malheur, Umatilla, and Wallowa-Whitman National Forests have elected to use the provisions of the 1982 planning rule including the requirement to prepare an EIS, to complete plan revisions. Although the 2008 planning rule is no longer in effect, information gathered prior to the court's injunction is useful for completing the plan revisions using the provisions of the 1982 planning rule. The Blue Mountains Plan Revision Team has concluded that the analyses begun or developed during the revision process to date are appropriate for continued use in the revision process.

Roadless Area Management Direction

The proposed action includes management direction for all National Forest System lands within the planning area, including lands identified as inventoried roadless areas (IRAs) in the Final Environmental Impact Statement for the 2001 Roadless Area Conservation Rule (RACR). There is currently a legal dispute regarding the status of the RACR, with one Federal Court (Wyoming District Federal Court, Judge Brimmer) finding the rule to be in conflict with law and enjoining its implementation and a different Federal Court (Northern California District Federal Court, Judge Laporte) reinstating that rule and prohibiting the Forest Service from taking any action that would have been prohibited under the RACR. The Forest Service is hopeful that current legal proceedings will resolve these conflicting court rulings.

The Proposed Action includes plan direction that retains the undeveloped character of all three national forests by including Management Areas that restrict road construction and timber harvest. This is based on analysis of the resources and management situation that the Forest Service has done in developing the Proposed Action and on extensive public involvement.

Comments received in the scoping process will help the agency determine the scope of issues related to roadless area management and guide the development of alternatives and analysis of environmental effects. The decision for the final plan will be consistent with the legal status of the RACR at the time the plan is signed.

Description of the Scoping Process

This notice of intent initiates the scoping process, which guides the development of the environmental impact statement. In scoping, the agency, with the assistance of the public, determines the scope of the issues to be addressed and identifies the significant issues related to the proposed action (see 40 CFR 1501.7).

It is important that reviewers provide their comments at such times and in such a way that they are useful to the Agency's preparation of the revised plan and the EIS. Therefore, comments should be provided prior to the close of the comment period and should clearly articulate the reviewers' concerns and contentions. The submission of timely and specific comments can affect a reviewer's ability to participate in subsequent objection, administrative appeal or judicial review.

Comments received in response to this solicitation, including the names and addresses of those who comment, will be part of the public record for this proposed action. Comments submitted anonymously will be accepted and considered.

Authority: 16 U.S.C. 1600-1614; 36 CFR 219.35 (74 FR 67073-67074).

Dated: March 22, 2010.
Mary Wagner,
Regional Forester, Forest Service Pacific Northwest Region.

[FR Doc. 2010-6748 Filed 3-26-10; 8:45 am]

BILLING CODE 3410-11-M